FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue, NW, Washington DC 20551-0001, not later than October 20, 2023.

A. Federal Reserve Bank of St. Louis (Holly A. Rieser, Senior Manager) P.O. Box 442, St. Louis, Missouri 63166-2034. Comments can also be sent electronically to Comments.applications@stls.frb.org:

1. Charles Bowen Blanchard, as trustee of the Blanchard Living Trust, the Kate Elizabeth Blanchard Irrevocable Trust, and the Bowen Dodd Blanchard Irrevocable Trust, all of Russellville, Arkansas; Cynthia Bowen Blanchard Dynasty Trust, Cynthia Bowen Blanchard, as trustee, both of Russellville, Arkansas; Mary Patricia Bowen Barker Legacy Trust, Mary Patricia Bowen Barker, as trustee, both of Little Rock, Arkansas; William Scott Bowen Legacy Trust, William Scott Bowen, as trustee, both of Little Rock, Arkansas; Leslie Allison Blanchard, Russellville, Arkansas; Mary Patricia Hardman, individually and as trustee of the Emma Ruth Hardman Irrevocable Trust and the Abby Elizabeth Hardman Irrevocable Trust, all of Fayetteville, Arkansas; and John Keith Hardman, Fayetteville, Arkansas; as part of a family control group acting in concert, to retain voting shares of First State Banking Corp, and thereby indirectly retain voting shares of First State Bank, both of Russellville, Arkansas.

In addition, Charles Bowen Blanchard, as trustee of the Charles B. Blanchard 2022 Trust and the Charles B. Blanchard Revocable Trust, all of Russellville, Arkansas; Charles H. Blanchard 2022 Trust, Charles H. Blanchard, as trustee, both of Russellville, Arkansas; Cynthia Bowen Blanchard GST Exempt Trust, Cynthia Bowen Blanchard, as trustee, both of Russellville, Arkansas; Mary Patricia Bowen Barker GST Exempt Trust, Mary Patricia Bowen Barker, as trustee, both of Little Rock, Arkansas; William Scott Bowen GST Exempt Trust, William Scott Bowen, as trustee, both of Little Rock, Arkansas; as part of a family control group acting in concert, to acquire voting shares of First State Banking Corp, and thereby indirectly acquire voting shares of First State Bank, both of Russellville, Arkansas.

B. Federal Reserve Bank of Kansas City (Jeffrey Imgarten, Assistant Vice President) 1 Memorial Drive, Kansas City, Missouri 64198-0001. Comments can also be sent electronically to KCApplicationComments@kc.frb.org:

1. James F. O'Neal as trustee of the Patrick B. O'Neal Irrevocable Trust dated June 25, 2009, James Christopher O'Neal Irrevocable Trust dated June 25, 2009, and James F. O'Neal and Bonnie O'Neal Irrevocable Grandchildren's Trust dated September 2, 2010, all of Lamar, Missouri; Patrick B. O'Neal and Michelle Boehm O'Neal Revocable Trust dated October 21, 2020, Patrick B. O'Neal and Michelle O'Neal as co-trustees, and Christopher J. O'Neal, all of Lamar, Missouri, to become members of the James F. O'Neal Family Control Group, a group acting in concert, to retain voting shares of Lamar Trust Bancshares, Inc., and thereby indirectly retain voting shares of Lamar Bank and Trust Company, all of Lamar, Missouri. James F. O'Neal has previously been permitted by the Federal Reserve System to acquire control of voting shares of Lamar Trust Bancshares, Inc., and thereby indirectly acquire control of voting shares of Lamar Bank and Trust Company, and is currently a member of the James F. O'Neal Family Control Group.

Board of Governors of the Federal Reserve System.
Michele Taylor Fennell,
Deputy Associate Secretary of the Board.

[FR Doc. 2023-22216 Filed 10-4-23; 8:45 am]

BILLING CODE P